DEPARTMENT OF THE INTERIOR

National Park Service

[NPS-WASO-NAGPRA-NPS0028910; PPWOCRADN0-PCU00RP14.R50000]

Notice of Inventory Completion: Tennessee Valley Authority, Knoxville, TN

AGENCY: National Park Service, Interior.

ACTION: Notice.

SUMMARY: The Tennessee Valley Authority (TVA) has completed an inventory of human remains in consultation with the appropriate Indian Tribes or Native Hawaiian organizations, and has determined that there is no cultural affiliation between the human remains and any present-day Indian Tribes or Native Hawaiian organizations. Representatives of any Indian Tribe or Native Hawaiian organization not identified in this notice that wish to request transfer of control of these human remains should submit a written request to the TVA. If no additional requestors come forward, transfer of control of the human remains to the Indian Tribes or Native Hawaiian organizations stated in this notice may proceed.

DATES: Representatives of any Indian Tribe or Native Hawaiian organization not identified in this notice that wish to request transfer of control of these human remains should submit a written request with information in support of the request to the TVA at the address in this notice by November 8, 2019.

ADDRESSES: Dr. Thomas O. Maher, TVA, 400 West Summit Hill Drive, WT11C, Knoxville TN 37902-1401, telephone (865) 632-7458, email tomaher@tva.gov.

SUPPLEMENTARY INFORMATION: Notice is here given in accordance with the Native American Graves Protection and Repatriation Act (NAGPRA), 25 U.S.C. 3003, of the completion of an inventory of human remains under the control of the Tennessee Valley Authority, Knoxville, TN. The human remains were removed from an archeological site in Colbert County, AL.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by TVA professional staff in consultation with representatives of the Absentee-Shawnee Tribe of Indians of Oklahoma; Alabama-Coushatta Tribe of Texas (previously listed as the Alabama-Coushatta Tribes of Texas); Cherokee Nation; Coushatta Tribe of Louisiana; Eastern Band of Cherokee Indians; Poarch Band of Creeks (previously listed as the Poarch Band of Creek Indians of Alabama); The Chickasaw Nation; The Choctaw Nation of Oklahoma; The Muscogee (Creek) Nation; The Seminole Nation of Oklahoma; and the United Keetoowah Band of Cherokee Indians in Oklahoma (hereafter referred to as “The Consulted Tribes”).

History and Description of the Remains

Between December 1938 and June 1939, human remains representing, at minimum, one individual were removed from the Little Bear Creek site, 1CT8, in Colbert County, AL, by the Alabama Museum of Natural History (AMNH) at the University of Alabama. TVA acquired the site on August 20, 1936, for the Pickwick Reservoir project. This shell midden site is at the confluence of Little Bear Creek and the Tennessee River. While there are no radiocarbon dates from this site, the excavated artifacts indicate that the major occupations took place during the Late Archaic (4000-1000 B.C.). Ceramics, while not abundant, were found in the upper two-to-three feet. Some of the ceramics suggest minor occupations during the Colbert (300 B.C.-A.D. 100) and McKelvey (A.D. 500-1000) phases. Distinctive shell-tempered vessels associated with some burials indicate a Mississippian Kogers Island phase (A.D. 1200-1500) occupation. The human remains are of indeterminate sex. No known individuals were identified. No associated funerary objects are present.

Human remains and associated funerary objects excavated from site 1CT8 were the subject of a notice published in the Federal Register on December 21, 2018. In January 2019, the human remains in this notice were discovered by the AMNH in the course of conducting a curation improvement project.

Determinations Made by the Tennessee Valley Authority

Officials of Tennessee Valley Authority have determined that:

• Pursuant to 25 U.S.C. 3001(9), the human remains described in this notice are Native American, based on their presence in prehistoric archeological sites and osteological analysis.

• Pursuant to 25 U.S.C. 3001(9), the human remains described in this notice represent the physical remains of one individual of Native American ancestry.

• Pursuant to 25 U.S.C. 3001(2), a relationship of shared group identity cannot be reasonably traced between the Native American human remains and any present-day Indian Tribe.

• According to final judgments of the Indian Claims Commission or the Court of Federal Claims, the land from which the Native American human remains were removed is the aboriginal land of the Cherokee Nation; Eastern Band of Cherokee Indians; and the United Keetoowah Band of Cherokee Indians in Oklahoma.

• The Treaty of September 20, 1816, indicates that the land from which the Native American human remains were removed is the aboriginal land of The Chickasaw Nation.

• Pursuant to 43 CFR 10.11(c)(1), the disposition of the human remains may be to the Cherokee Nation; Eastern Band of Cherokee Indians; The Chickasaw Nation; and the United Keetoowah Band of Cherokee Indians in Oklahoma.

• The Cherokee Nation; Eastern Band of Cherokee Indians; and the United Keetoowah Band of Cherokee Indians in Oklahoma have declined to accept transfer of control of the human remains.

• Pursuant to 43 CFR 10.11(c)(1)(ii), the Tennessee Valley Authority has decided to transfer control of the human remains to The Chickasaw Nation.

Additional Requestors and Disposition

Representatives of any Indian Tribe or Native Hawaiian organization not identified in this notice that wish to request transfer of control of these human remains should submit a written request with information in support of the request to Dr. Thomas O. Maher, TVA, 400 West Summit Hill Drive, WT11C, Knoxville, TN 37902-1401, telephone (865) 632-7458, email tomaher@tva.gov, by November 8, 2019. After that date, if no additional requestors have come forward, transfer of control of the human remains to The Chickasaw Nation may proceed.

The Tennessee Valley Authority is responsible for notifying The Consulted Tribes that this notice has been published.

Dated: September 13, 2019.
Melanie O'Brien,
Manager, National NAGPRA Program.

[FR Doc. 2019-22043 Filed 10-8-19; 8:45 am]

BILLING CODE 4312-52-P